SOCIAL SECURITY ADMINISTRATION

[Docket No. SSA-2025-0035]

Privacy Act of 1974; System of Records

AGENCY: Social Security Administration (SSA).

ACTION: Notice of a modified system of records.

SUMMARY: In accordance with the Privacy Act of 1974, we are issuing public notice of our intent to modify an existing system of records entitled, Requests for Accommodation from Members of the Public (60-0378), last published in full on June 17, 2014. This notice publishes details of the modified system as set forth below under the caption, SUPPLEMENTARY INFORMATION.

DATES: The system of records notice (SORN) is applicable upon its publication in today's Federal Register, with the exception of the new routine uses, which are effective February 17, 2026.

We invite public comment on the routine uses or other aspects of this SORN. In accordance with the Privacy Act of 1974, we are providing the public a 30-day period in which to submit comments. Therefore, please submit any comments by February 17, 2026.

ADDRESSES: The public, Office of Management and Budget (OMB), and Congress may comment on this publication by writing to the Head of Privacy and Disclosure Policy, Law and Policy, SSA, Room G-401 West High Rise, 6401 Security Boulevard, Baltimore, Maryland 21235-6401, or through the Federal e-Rulemaking Portal at https://www.regulations.gov. Please reference docket number SSA-2025-0035. All comments we receive will be available for public inspection at the above address and we will post them to https://www.regulations.gov.

FOR FURTHER INFORMATION CONTACT: Elizabeth Boorstein, Government Information Specialist, Privacy Implementation Division, Privacy and Disclosure Policy, Law and Policy, SSA, Room G-401 West High Rise, 6401 Security Boulevard, Baltimore, Maryland 21235-6401, telephone: (410) 966-5855, email: OGC.OPD.SORN@ssa.gov, and Tristin Dorsey, Government Information Specialist, Privacy Implementation Division, Privacy and Disclosure Policy, Law and Policy, SSA, Room G-401 West High Rise, 6401 Security Boulevard, Baltimore, Maryland 21235-6401, telephone: (410) 966-5855, email: OGC.OPD.SORN@ssa.gov.

SUPPLEMENTARY INFORMATION: We are modifying the system location to clarify where the agency will maintain records. We are modifying the system manager to clarify the offices responsible for maintaining the system. We are clarifying the categories of records maintained in the system for easier reading.

In addition, we are expanding the record source categories to include additional SSA systems of records. We are clarifying the language in existing routine use Nos. 2 and 4 for easier reading. We are adding a new routine use that will permit disclosures to third parties, when an individual involved with a request needs assistance to communicate because of a hearing impairment or a language barrier (e.g., to interpreters, telecommunications relay system operators).

Lastly, we are clarifying the policies and practices for the retention and disposal of records to reflect accurate records schedules. We are modifying the administrative, technical, and physical safeguards for easier reading. We are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Head of Privacy and Disclosure Policy, Law and Policy.

SYSTEM NAME AND NUMBER:

Requests for Accommodation from Members of the Public (RAMP), 60-0378

SECURITY CLASSIFICATION:

Unclassified.

SYSTEM LOCATION:

Social Security Administration, Chief Information Officer, Systems Operations and Hardware Engineering, 6401 Security Boulevard, Baltimore, Maryland 21235.

Requests for accommodation may also be established initially and maintained in any SSA office, e.g., field offices, Program Service Centers, hearing offices, etc. (See Appendices A through F at https://www.ssa.gov/privacy/sorn.html).

SYSTEM MANAGER(S):

Social Security Administration, Head of Human Resources, Human Resources, 6401 Security Boulevard, Baltimore, MD 21235, (410) 966-5855.

AUTHORITY FOR MAINTENANCE OF THE SYSTEM:

Section 504 of the Rehabilitation Act of 1973, as amended. This statute provides that no otherwise qualified individual with a disability will, solely by reason of their disability, be excluded from participation in, be denied the benefits of, or be subjected to discrimination under any program or activity receiving Federal financial assistance or under any program or activity conducted by any Executive agency.

PURPOSE(S) OF THE SYSTEM:

We will use information in this system to process requests for both standard and non-standard accommodations from members of the public. We will also use the information to track requests, approve and deny requests, communicate with the requester, compile management information, and conduct research and statistical activities related to SSA's 504 program.

CATEGORIES OF INDIVIDUALS COVERED BY THE SYSTEM:

This system maintains information about members of the public with disabilities who request an accommodation from the agency in order to have access to the agency's services and programs.

CATEGORIES OF RECORDS IN THE SYSTEM:

This system maintains records that include, but are not limited to, personally identifying information (PII) (e.g., name, contact information, Social Security number (SSN), if available) of individuals who file a request for accommodation; a description of the individual's condition (disability or impairment); the accommodation preferred and any acceptable alternative accommodations; an explanation as to why we cannot satisfy or resolve the request with one of SSA's standard accommodations, if applicable; correspondence between SSA and the requesting individual; and additional information required to coordinate the accommodation.

RECORD SOURCE CATEGORIES:

We obtain information in this system of records from members of the public who request an accommodation, third parties requesting an accommodation on another's behalf, and existing SSA systems of records such as the Claims Folder System, 60-0089; Electronic Disability Claim File, 60-0320; and Appointments, Visitor Information, and Customer Service Record System, 60-0350.

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by statute, the Internal Revenue Service (IRS), or IRS regulations.

1. To the Department of Justice (DOJ) or other Federal and State agencies when necessary for the administration or enforcement of civil rights laws or regulations.

2. To a congressional office in response to an inquiry from that office made on behalf of, and at the request of, the subject of the record.

3. To the Office of the President, in response to an inquiry received from that office made on behalf of, and at the request of, the subject of record or a third party acting on the subject's behalf.

4. To DOJ, a court or other tribunal, or another party before such court or tribunal, when:

(a) SSA, or any component thereof;

(b) any SSA employee in the employee's official capacity;

(c) any SSA employee in the employee's individual capacity when DOJ (or SSA, where it is authorized to do so) has agreed to represent the employee; or

(d) the United States or any agency thereof when we determine the litigation is likely to affect SSA or any of our components, SSA is a party to the litigation or has an interest in such litigation, and SSA determines that the use of such records by DOJ, a court or other tribunal, or another party before the tribunal, is relevant and necessary to the litigation, provided, however, that in each case, we determine that such disclosure is compatible with the purpose for which the records were collected.

5. To student volunteers, individuals working under a personal services contract, and other workers who technically do not have the status of Federal employees, when they are performing work for us, as authorized by law, and they need access to PII in our records in order to perform their assigned agency functions.

6. To contractors and Federal, State, or local agencies, as necessary, for assisting SSA in providing accommodations to members of the public seeking access to our programs and activities, in compliance with Section 504 of the Rehabilitation Act of 1973, as amended. We will disclose information under this routine use pursuant only to a written agreement between SSA and that contractor or agency.

7. To Federal, State, and local law enforcement agencies and private security contractors, as appropriate, if the information is necessary:

(a) to enable them to protect the safety of SSA employees and customers, the security of the SSA workplace, and the operation of our facilities, or

(b) to assist investigations or prosecutions with respect to activities that affect such safety and security or activities that disrupt the operation of our facilities.

8. To the National Archives and Records Administration (NARA) under 44 U.S.C. 2904 and 2906.

9. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

10. To contractors, grantees, other entities (e.g., universities or non-profits), State agencies, and other Federal agencies, for the purpose of performing research and statistical activities to assist SSA in the efficient administration of its programs. We will disclose information under this routine use pursuant only to a written agreement with us.

11. To Federal, State, or local agencies (or agents on their behalf) for providing accommodations to members of the public in compliance with Section 504 of the Rehabilitation Act of 1973, as amended, when that agency is administering cash or non-cash income maintenance or health maintenance programs (including programs under the Social Security Act).

12. To another Federal agency or Federal entity, when we determine that information from this system of records is reasonably necessary to assist the recipient agency or entity in:

(a) responding to a suspected or confirmed breach; or

(b) preventing, minimizing, or remedying the risk of harm to individuals, the recipient agency or entity (including its information systems, programs, and operations), the Federal Government, or national security, resulting from a suspected or confirmed breach.

13. To third parties when an individual involved with a request needs assistance to communicate because of a hearing impairment or a language barrier (e.g., to interpreters, telecommunications relay system operators).

POLICIES AND PRACTICES FOR STORAGE OF RECORDS:

We will maintain records in this system in electronic and paper form.

POLICIES AND PRACTICES FOR RETRIEVAL OF RECORDS:

We retrieve records in this system by SSN, name of the requesting member of the public, or both SSN and name.

POLICIES AND PRACTICES FOR RETENTION AND DISPOSAL OF RECORDS:

In accordance with NARA rules codified at 36 CFR 1225.16, we maintain records in accordance with agency-wide Legal Bucket, DAA-0047-2022-0003.

ADMINISTRATIVE, TECHNICAL, AND PHYSICAL SAFEGUARDS:

We retain electronic and paper records containing personal identifiers in secure storage areas accessible only by our authorized individuals, including our employees and contractors, who have a need for the information when performing their official duties. Security measures include, but are not limited to, the use of codes and profiles, personal identification numbers and passwords, and personal identification verification cards. We restrict access to specific correspondence within the system based on assigned roles and authorized users. We use audit mechanisms to record sensitive transactions as an additional measure to protect information from unauthorized disclosure or modification.

We annually provide authorized individuals, including our employees and contractors, with appropriate security awareness training that includes reminders about the need to protect PII and the criminal penalties that apply to unauthorized access to, or disclosure of, PII (5 U.S.C. 552a(i)(1)). Furthermore, authorized individuals with access to databases maintaining PII must annually sign a sanctions document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) a notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as records access procedures. These procedures are in accordance with our regulations at 20 CFR 401.40 and 401.45.

EXEMPTIONS PROMULGATED FOR THE SYSTEM:

None.

HISTORY:

79 FR 34558 (June 17, 2014), RAMP.

83 FR 54969 (November 1, 2018), RAMP.

[FR Doc. 2026-00816 Filed 1-15-26; 8:45 am]

BILLING CODE 4191-02-P